DEPARTMENT OF THE TREASURY

Internal Revenue Service

Advisory Council to the Internal Revenue Service; Meeting

AGENCY: Internal Revenue Service (IRS), Treasury.

ACTION: Notice.

SUMMARY: The Internal Revenue Service Advisory Council (IRSAC) will hold a public meeting on Wednesday, November 19, 2014.

FOR FURTHER INFORMATION CONTACT: Ms. Lorenza Wilds, IRSAC Program Manager, National Public Liaison, CL: NPL, 7559, 1111 Constitution Avenue NW., Washington, DC 20224. Telephone: 202-317-6851 (not a toll-free number). Email address: PublicLiaison@irs.gov.

SUPPLEMENTARY INFORMATION: Notice is hereby given pursuant to section 10(a)(2) of the Federal Advisory Committee Act, 5 U.S.C. App. (1988), a public meeting of the IRSAC will be held on Wednesday, November 19, 2014, from 9:20 a.m. to 1:15 p.m. at the Embassy Suites Hotel, 1250 22nd Street NW., Consulate/Ambassador Ballroom, Washington, DC 20037. Issues to be discussed include, but not limited to: The IRS Needs Sufficient Funding to Operate Efficiently and Effectively, Provide Timely and Useful Guidance to Taxpayers and Enforce Current Law, so that Respect for our Voluntary Tax System is Maintained, Changing Taxpayers' Behavior for Taxpayers that Electronically Prepare their Tax Returns but Paper File, Improving Automated Underreporter (AUR) Customer Satisfaction, Risk Assessing Large Taxpayers, Rules of Engagement and Escalation of Issues, Business Identity Theft, Fresh Start Initiative, Tax Assistance to Marijuana Businesses, Guidance to Practitioners Regarding Professional Obligations. Reports from the four IRSAC subgroups, Large Business and International, Small Business/Self-Employed, Wage & Investment, and the Office of Professional Responsibility will also be presented and discussed. Last minute agenda changes may preclude advanced notice. The meeting room accommodates approximately 80 people, IRSAC members and Internal Revenue Service officials inclusive. Due to limited seating, please call Lorenza Wilds to confirm your attendance. Ms. Wilds can be reached at 202-317-6851. Attendees are encouraged to arrive at least 30 minutes before the meeting begins. Should you wish the IRSAC to consider a written statement, please write to Internal Revenue Service, Office of National Public Liaison, CL: NPL: 7559, 1111 Constitution Avenue NW., Washington, DC 20224, or email PublicLiaison@irs.gov.

Dated: October 17, 2014.
Candice Cromling,
Director, National Public Liaison.

[FR Doc. 2014-25281 Filed 10-22-14; 8:45 am]

BILLING CODE 4830-01-P